DEPARTMENT OF LABOR

Employment and Training Administration

[TA-W-81,253]

Sears Holdings Management Corporation, A Division of Sears Holdings Corporation, Hoffman Estates, IL; Notice of Affirmative Determination Regarding Application for Reconsideration

By application dated April 20, 2012, a worker requested administrative reconsideration of the negative determination regarding workers' eligibility to apply for Trade Adjustment Assistance (TAA) applicable to workers and former workers of the subject firm. The worker requested administrative reconsideration of the negative determination regarding workers' eligibility to apply for Trade Adjustment Assistance (TAA) applicable to workers and former workers of the subject firm. The determination was issued on March 30, 2012 and the Notice of Determination was published in the Federal Register on April 18, 2012 (77 FR 23290).

The initial investigation resulted in a negative determination based on the findings that there was no shift in services and any company or customer imports of like or directly competitive services.

The request for reconsideration alleges that the worker group does not perform marketing, analysis, and space management services, as stated in the determination; that worker separations was due to a shift in the supply of accounting, marketing, and inventory services to India; and that the workers at the Hoffman Estates, Illinois facility are similarly situated as the Sears Holdings workers at the Dallas, Texas facility who are covered by a certification (TA-W-73,244).

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 3rd day of August, 2012.
Del Min Amy Chen,
Certifying Officer, Office of Trade Adjustment Assistance.

[FR Doc. 2012-19914 Filed 8-13-12; 8:45 am]

BILLING CODE 4510-FN-P